DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Labor Standards for Federal Service Contracts 29 CFR, Part 4. A copy of the proposed information collection request can be obtained by contacting the office listed below in the addresses section of this Notice.

DATES: Written comments must be submitted to the office listed in the addresses section below on or before June 25, 2007.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

I. Background

Section 2(a) of the Service Contract Act (41 U.S.C. 351) provides that every contract subject to the Act must contain a provision specifying the minimum monetary wages and fringe benefits to be paid to the various classes of service employees performing work on the contract. This information collection pertains to records needed to determine an employee's seniority for purposes of determining any vacation benefit, to conform wage rates where they do not appear on a wage determination (WD), and to update WDs because of changing terms in a collective bargaining agreement. This information collection is currently approved for use through September 30, 2007.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order carry out the provisions of the Labor Standards for Federal Service Contracts.

Type of Review: Extension.

Agency: Employment Standards Administration.

Title: Labor Standards for Federal Service Contracts—Regulations 29 CFR, Part 4.

OMB Number: 1215-0150.

Affected Public: Business or other for-profit; Federal Government.

Total Respondents: 50,812.

Time per Response: 50,812.

Requirement | Number of respondents | Average time per responses | Burden hours
Vacation Benefit Seniority List | 48,984 | 1 hour | 48,984
Conformance Record | 200 | ½ hour | 100
Collective Bargaining Agreement | 1628 | 5 minutes | 136
Total | 50,812 |  | 49,220

Frequency: On occasion.

Estimated Total Burden Hours: 49,220.

Total Burden Cost (capital/startup): $0.

Total Burden Cost (operating/maintenance): $0.

Comments submitted in response to this notice will be summarized and/or included in the request for Office of Management and Budget approval of the information collection request; they will also become a matter of public record.

Dated: April 18, 2007.
Hazel Bell,
Acting Chief, Branch of Management Review and Internal Control, Division of Financial Management, Office of Management, Administration and Planning, Employment Standards Administration.

[FR Doc. E7-7821 Filed 4-24-07; 8:45 am]

BILLING CODE 4510-27-P